DEPARTMENT OF TRANSPORTATION

Federal Aviation Administration

[Docket No. FAA-2021-0067]

Agency Information Collection Activities: Requests for Comments; Clearance of Renewed Approval of Information Collection: High Density Traffic Airports; Slot Allocation and Transfer Methods

AGENCY: Federal Aviation Administration (FAA), DOT.

ACTION: Notice and request for comments.

SUMMARY: In accordance with the Paperwork Reduction Act of 1995, FAA invites public comments about our intention to request approval from the Office of Management and Budget (OMB) to renew a currently approved information collection. The FAA collects information from U.S. and foreign air carriers holding a slot at Ronald Reagan Washington National Airport (DCA), John F. Kennedy International Airport (JFK), and LaGuardia Airport (LGA); operating scheduled flights at Newark Liberty International Airport (EWR), Los Angeles International Airport (LAX), O'Hare International Airport (ORD), and San Francisco International Airport (SFO); and conducting unscheduled operations at DCA and LGA. The information collected is necessary to support the advance management of air traffic demand by the FAA Slot Administration in an effort to reduce potential delays. The FAA proposes renaming this information collection to “FAA Runway Slot Administration and Schedule Analysis” to more accurately reflect the collection of information related to multiple airports subject to different FAA regulatory and voluntary processes under this program.

DATES: Written comments should be submitted by May 17, 2021.

ADDRESSES: Send comments on this proposal to the U.S. Department of Transportation, Docket Operations, 1200 New Jersey Avenue SE, West Building Ground Floor, Room W12-140, Washington, DC 20590-0001; telephone: (800) 647-5527, or (202) 366-9826. You must identify FAA Docket Number FAA-2021-0067 at the beginning of your comments. You may also submit comments through the internet at https://www.regulations.gov.

FOR FURTHER INFORMATION CONTACT: Matthew Gonabe, FAA Slot Administration, by email at: matthew.gonabe@faa.gov; phone: (609) 485-9554.

SUPPLEMENTARY INFORMATION:

Public Comments Invited: Public comment is invited on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0524.

Title: High Density Traffic Airports; Slot Allocation and Transfer Methods.

Form Numbers: There are no FAA forms associated with this collection.

Type of Review: Renewal of an information collection.

Background: The FAA has implemented several initiatives to address air traffic congestion and delay at certain airports within the National Airspace System (NAS). DCA slot rules are established under 14 CFR part 93, subparts K and S. The FAA has issued Orders limiting operations at JFK and LGA.¹ These Orders resulted from increasing congestion and delays at the airports requiring the FAA to allocate arrival and departure slots at JFK and LGA. In addition, the FAA has designated EWR, ORD, SFO, and LAX as Level 2 schedule-facilitated airports under the IATA Worldwide Slot Guidelines (WSG) now known as the Worldwide Airport Slot Guidelines (WASG).² At Level 2 airports, the FAA seeks the cooperation of all carriers planning operations, on a voluntary basis, to maintain close communications on runway schedules and facilitate adjustments, as needed.

¹ Operating Limitations at John F. Kennedy International Airport, 73 FR 3510 (Jan. 18, 2008), as most recently amended 85 FR 58258 (Sep. 18, 2020); Operating Limitations at New York LaGuardia Airport, 71 FR 77854 (Dec. 27, 2006), as most recently amended 85 FR 58255 (Sep. 18, 2020).

² Notice of Submission Deadline for Schedule Information for O'Hare International, John F. Kennedy International, and Newark Liberty International Airports for the Summer 2009 Scheduling Season, 73 FR 54659 (Sept. 22, 2008); Notice of Submission Deadline for Schedule Information for San Francisco International Airport for the Summer 2012 Scheduling Season, 76 FR 64163 (Oct. 17, 2011); Notice of Submission Deadline for Schedule Information for Los Angeles International Airport for the Summer 2015 Scheduling Season 80 FR 12253 (Mar. 6, 2015); Notice of Change of Newark Liberty International Airport Designation, 81 FR 19861 (Apr. 6, 2016). The FAA reaffirmed the Level 2 designations by 85 FR 65134 (Oct. 14, 2020). These designations remain effective until the FAA announces a change in the Federal Register.

At DCA, U.S. and foreign air carriers, including commuter operators, must notify the FAA of: (1) Written consent and requests for confirmation of slot transfers; (2) slots required to be returned and slots voluntarily returned; (3) requests to be included in a lottery for the permanent allocation of available slots; (4) reports on usage of slots on a bi-monthly basis; and (5) requests for slots in low-demand hours or other temporary allocations. Operators must obtain a reservation from the FAA prior to conducting an unscheduled operation. At LGA, U.S. and foreign air carriers must notify the FAA of: (1) Written consent and requests for confirmation of slot transfers; (2) slots required to be returned and slots voluntarily returned; (3) requests to be included in a lottery for the permanent allocation of available slots; and (4) reports usage of slots on a bi-monthly basis. Carriers must also request and obtain a reservation from the FAA prior to conducting an unscheduled operation. At JFK, U.S. and foreign air carriers must notify the FAA of: (1) Written consent and requests for confirmation of slot transfers; (2) requests for seasonal allocation of historic and additional available slots; (3) reports on usage of slots on a seasonal basis; (4) the return of slots; and (5) changes to allocated slots. At EWR, LAX, ORD, and SFO, all carriers are asked to notify the FAA of their intended operating schedules during designated hours on a semiannual basis (for each winter and summer scheduling season) based on the IATA WASG Calendar of Coordination Activities and provide updates throughout the year when there are significant schedule changes.

The FAA estimates that all information from carriers is submitted electronically from data stored in carrier scheduling databases. Requests for unscheduled flight reservations are submitted electronically via the internet. The FAA also proposes to re-name the collection to “FAA Runway Slot Administration and Schedule Analysis” to more accurately reflect the collection of information related to multiple airports subject to different FAA regulatory and voluntary processes.

Respondents: 119 unique carriers; unknown number of carriers conducting unscheduled operations at LGA and DCA.

Frequency: Information is collected as needed; some reporting on bimonthly or semiannual basis.

Estimated Average Burden per Response: 6 minutes per slot transaction per respondent (i.e., transferor and transferee); 6 minutes per slot return; 6 minutes per schedule update; 6 minutes per request for inclusion in a lottery; 2 minutes per unscheduled slot request; 1.5 hours per schedule submission; and 1 hour per slot usage report.

Estimated Total Annual Burden: 5602.6 hours.

Issued in Washington, DC, on March 10, 2021.
Matthew S. Gonabe,
Program Specialist, FAA Slot Administration.

[FR Doc. 2021-05334 Filed 3-15-21; 8:45 am]

BILLING CODE 4910-13-P